DEPARTMENT OF JUSTICE

Antitrust Division

Notice Pursuant to the National Cooperative Research and Production Act of 1993—Optical Internetworking Forum

Notice is hereby given that, on March 28, 2002, pursuant to Section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Synopsys, Mountain View, C; Exar, Fremont, CA; Charlotte's Web Networks, Yoqneam, Israel; Mysticom, Netanya, Israel; Anritsu, Atsugi-shi, Kanagawa, Japan; Flextronics Semiconductor, Bowie, MD; Stratos Lightwave, Mountlake Terrace, WA; Bookham Technology, Abingdon, Oxfordshire, United Kingdom; Tality, Cary, NC; Peregrine Semiconductor, San Diego, CA; SiPackets, Fremont, CA; Ignis Optics, San Jose; CA; Sparkolor, Santa Clara, CA; Xindium, Champaign, IL; Harting Electro-Optics GmbH, Espelkamp, Nordrhein-Westfalen, Germany; Silicon Logic, Eau Claire, WI; Myrica Networks, San Diego, CA; Atrica, Hertzelia, Israel; TeraConnect, Nashua, NH; DeriveIt, Campbell, CA; Greenfield Networks, Santa Clara; CA; MathStar, Minnetonka, MN; Santec Corporation, Komaki, Aichi, Japan; Optium, Chalfont, PA; Fiberspace, Woodland Hills, CA, Octillion Communications, San Jose, CA; and GDA Technologies, San Jose, CA have been added as parties to this venture.

Princeton Optronics, Princeton, NJ changed from auditing to small business member. The following members have changed their names: Cinta Corporation to Cinta Networks, San Jose, CA; GMD to FhG—IMK, Munich, Bavaria, Germany; Edgeflow to Meriton Networks, Kanata, Ontario, Canada; Solinet Systems to Ceyba, Ottawa, Ontario, Canada; Sita Equant to Equant, Valbonne, Sophia Antipolis, France.

The following members have been involved with mergers: Onex Communications, Bedford, MA merged with TranSwitch Corporation, Bedford, MA; Ocular Networks, Reston, VA merged with Tellabs, Lisle, IL; and Silicon Packets, San Jose, CA merged with Cypress Semiconductor, San Jose, CA.

No other changes have been made in either the membership or planned activity of the group research project. Membership in this group research project remains open, and Optical Internetworking Forum intends to file additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on October 3, 2001. A notice was published in the Federal Register pursuant to Section 6(b) of the Act on February 15, 2002 (67 FR 7201).

Constance K. Robinson,
Director of Operations, Antitrust Division.

[FR Doc. 02-13307 Filed 5-28-02; 8:45 am]

BILLING CODE 4410-11-M